DEPARTMENT OF HEALTH AND HUMAN SERVICES

Centers for Disease Control and Prevention

[Program Announcement 04069]

HIV Prevention Projects for the Pacific Islands; Notice of Availability of Funds—Amendment

A notice announcing the availability of fiscal year (FY) 2004 funds for cooperative agreements for HIV Prevention Projects for the Pacific Islands was published in the Federal Register, Tuesday, December 30, 2003, Volume 68, Number 249, pages 75246-75256. The notice is amended as follows:

Page 75246, first column, Application Deadline, and Page 75253, second column, Application Deadline Date, delete “February 2, 2004”, and replace with “February 9, 2004”.

Dated: January 16, 2004.
Sandra R. Manning,
Director, Procurement and Grants Office, Centers for Disease Control and Prevention.

[FR Doc. 04-1419 Filed 1-22-04; 8:45 am]

BILLING CODE 4163-18-P